SMALL BUSINESS ADMINISTRATION

[Declaration of Economic Injury Disaster #9T74]

State of New York

Westchester County and the contiguous counties of Bronx, Orange, Putnam and Rockland in the State of New York; Fairfield County in Connecticut; and Bergen County in New Jersey constitute an economic injury disaster loan area due to a fire that occurred on November 7, 2002, in the City of Mount Vernon in Westchester County. Eligible small businesses and small agricultural cooperatives without credit available elsewhere may file applications for economic injury assistance as a result of this disaster until the close of business on October 3, 2003 at the address listed below or other locally announced locations: U.S. Small Business Administration, Disaster Area 1 Office, 360 Rainbow Blvd, South, 3rd Floor, Niagara Falls, NY 14303.

The interest rate for eligible small businesses and small agricultural cooperatives is 3.324 percent.

The numbers assigned for economic injury for this disaster are 9T7400 for New York; 9T7500 for Connecticut; and 9T7600 for New Jersey.

(Catalog of Federal Domestic Assistance Program No. 59002.)
Dated: January 3, 2003.
Hector V. Barreto,
Administrator.

[FR Doc. 03-511 Filed 1-9-03; 8:45 am]

BILLING CODE 8025-01-P